DEPARTMENT OF THE TREASURY

United States Mint

Pricing for American Eagle and American Buffalo Bullion Presentation Cases

AGENCY: United States Mint, Department of the Treasury.

ACTION: Notice.

SUMMARY: The United States Mint is announcing the price increase of the American Eagle/Buffalo Bullion Presentation Cases.

A lot of 100 presentation cases will be offered for sale at a price of $299.95.

FOR FURTHER INFORMATION CONTACT: B. B. Craig, Associate Director for Sales and Marketing; United States Mint; 801 9th Street NW.; Washington, DC 20220; or call 202-354-7500.

Authority: 31 U.S.C. 5111, 5112 & 9701.

Dated: May 3, 2011.
Richard A. Peterson,
Acting Director, United States Mint.

[FR Doc. 2011-11290 Filed 5-9-11; 8:45 am]

BILLING CODE P